POSTAL RATE COMMISSION

Briefing on the Future of Mail

AGENCY: Postal Rate Commission.

ACTION: Notice of briefing.

SUMMARY: On February 22, 2006, the Commission will host a presentation by Pitney Bowes on the future of mail. Topics will include, among others, the evolution of substitution models; volume forecasting comparisons; technology; pricing; regulation; and human and ethnographic factors. The briefing will begin at 10:30 a.m. in the Commission's hearing room.

DATES: February 22, 2006.

ADDRESSES: Postal Rate Commission, 901 New York Ave., NW., Suite 200, Washington, DC 20268-0001.

FOR FURTHER INFORMATION CONTACT: Stephen L. Sharfman, General Counsel, 202-789-6818.

Steven W. Williams,
Secretary.

[FR Doc. 06-1105 Filed 2-6-06; 8:45 am]

BILLING CODE 7710-FW-M